SECURITIES AND EXCHANGE COMMISSION

[File No. 500-1]

Order of Suspension of Trading

In the Matter of Abacan Resources Corp., Advanced Solutions and Technologies, Inc., American Multiplexer Corp., Amitelo Communications, Inc., Comparator Systems Corp., Digi Link Technologies, Inc., DMT Energy, Inc., DrKoop.Com, Inc. Emerging Enterprise Solutions, Inc., Homeland Security Technology, Inc., First Pacific Networks, Inc., Heroes, Inc., Infotopia, Inc., JTS Corp., 1st Miracle Entertainment, Inc., Shaman Pharmaceuticals, Inc., United States Crude International, Inc., Webvan Group, Inc., and Whitehall Enterprises, Inc.;

It appears to the Securities and Exchange Commission that there is a lack of current and accurate information concerning the securities of:

(1) Abacan Resources Corp. because the company has failed to file timely periodic reports with the Commission in violation of Section 13(a) of the Securities Exchange Act of 1934 (“Exchange Act”) since the period ending September 30, 1999;

(2) Advanced Solutions and Technologies, Inc. (F/k/a Indexonly Technologies, Inc.) because the company has failed to file timely periodic reports with the Commission in violation of Section 13(a) of the Securities Exchange Act of 1934 since the period ending September 30, 2000;

(3) American Multiplexer Corp. because the company has failed to file timely periodic reports with the Commission in violation of Section 13(a) of the Securities Exchange Act of 1934 since the period ending September 30, 2000;

(4) Amitelo Communications, Inc. because the company has failed to file timely periodic reports with the Commission in violation of Section 13(a) of the Securities Exchange Act of 1934 since the period ending December 31, 1995;

(5) Comparator Systems Corp. because the company has failed to file timely periodic reports with the Commission in violation of Section 13(a) of the Securities Exchange Act of 1934 since the period ending December 31, 1997;

(6) Digi Link Technologies, Inc. because the company has failed to file timely periodic reports with the Commission in violation of Section 13(a) of the Securities Exchange Act of 1934 since the period ending June 30, 2001;

(7) DMT Energy, Inc. because the company has failed to file timely periodic reports with the Commission in violation of Section 13(a) of the Securities Exchange Act of 1934 since the period ending November 30, 1999;

(8) DrKoop.Com, Inc. because the company has failed to file timely periodic reports with the Commission in violation of Section 13(a) of the Securities Exchange Act of 1934 since the period ending September 30, 2001;

(9) Emerging Enterprise Solutions, Inc. because the company has failed to file timely periodic reports with the Commission in violation of Section 13(a) of the Securities Exchange Act of 1934 since the period ending March 31, 2000;

(10) Homeland Security Technology, Inc. because the company has failed to file timely periodic reports with the Commission in violation of Section 13(a) of the Securities Exchange Act of 1934 since the registration of its securities became effective on May 26, 1998;

(11) First Pacific Networks, Inc. because the company has failed to file timely periodic reports with the Commission in violation of Section 13(a) of the Securities Exchange Act of 1934 since the period ending September 30, 1996;

(12) Heroes, Inc. because the company has failed to file timely periodic reports with the Commission in violation of Section 13(a) of the Securities Exchange Act of 1934 since the period ending September 30, 2002;

(13) Infotopia, Inc. because the company has failed to file timely periodic reports with the Commission in violation of Section 13(a) of the Securities Exchange Act of 1934 since the period ending September 30, 2001;

(14) JTS Corp. because the company has failed to file timely periodic reports with the Commission in violation of Section 13(a) of the Securities Exchange Act of 1934 since the period ending November 2, 1997;

(15) 1st Miracle Entertainment, Inc. because the company has failed to file timely periodic reports with the Commission in violation of Section 13(a) of the Securities Exchange Act of 1934 since the period ending January 31, 2002;

(16) Shaman Pharmaceuticals, Inc. because the company has failed to file timely periodic reports with the Commission in violation of Section 13(a) of the Securities Exchange Act of 1934 since the period ending March 31, 2001;

(17) United States Crude International, Inc. because the company has failed to file timely periodic reports with the Commission in violation of Section 13(a) of the Securities Exchange Act of 1934 since the period ending December 31, 2000;

(18) Webvan Group, Inc. because the company has failed to file timely periodic reports with the Commission in violation of Section 13(a) of the Securities Exchange Act of 1934 since the period ending March 31, 2001; and,

(19) Whitehall Enterprises, Inc. because the company has failed to file timely periodic reports with the Commission in violation of Section 13(a) of the Securities Exchange Act of 1934 since the period ending June 30, 2002.

The Commission is of the opinion that the public interest and the protection of investors require a suspension of trading in the securities of the above-listed companies.

Therefore, it is ordered, pursuant to Section 12(k) of the Securities Exchange Act of 1934, that trading in the securities of the above-listed companies is suspended for the period from 9:30 a.m. e.s.t. on December 1, 2004, through 11:59 p.m. e.s.t. on December 14, 2004.

By the Commission.
Jonathan G. Katz,
Secretary.

[FR Doc. 04-26716 Filed 12-1-04; 11:48 am]

BILLING CODE 8010-01-P